DEPARTMENT OF COMMERCE

Submission for OMB Review; Comment Request

DOC has submitted to the Office of Management and Budget (OMB) for clearance the following proposal for collection of information under the provisions of the Paperwork Reduction Act (44 U.S.C. 3506(c)(2)(A)).

Agency: U.S. Department of Commerce.

Title: Applicant Background Survey.

Form Number: Pending OMB approval.

Agency Approval Number: 0690-xxxx.

Type of Request: New collection.

Burden: 2,812.5 hours.

Number of Respondents: 45,000 annually.

Avg Hours Per Response: 5 minutes.

Needs and Uses: The Department of Commerce is below parity with the relevant civilian labor force representation for many of our primary occupations. The only method to determine if there are barriers in the recruitment and selection process for these occupations is to track groups that apply and how they fare through the selection process. Without this information, DOC does not have the ability to evaluate the effectiveness of its recruitment efforts, or to determine barriers in its selection process. There is no other objective way to make these determinations, and no source of this information other than from applicants.

The race and national origin (RNO) information of job applicants was previously collected by all Federal agencies using OPM Form 1386. The form expired several years ago and DOC is seeking to establish a replacement form. Completion of the form is voluntary. It will not be a required part of the application package. A number of Federal agencies have already recreated this form for the same purpose collecting race, national origin, gender and disability information of job applicants.

The information is not provided to selecting officials and plays no part in the selection of individuals. Instead, it is used in summary form to determine trends over many selections within a given occupation or organizational area. The information is treated in a very confidential manner.

Affected Public: Individual or households.

Frequency: On occasion.

Respondent's Obligation: Voluntary.

Legal Authority: Section 7201 of Title 5 of the U.S. Code, Title VII of the U.S. Civil Rights Action of 1964, as amended, the Rehabilitation Act of 1973, as amended, 29 CFR Section 1607.

OMB Desk Officer: Susan Schechter, (202) 395-5103.

Copies of the above information collection proposal can be obtained by calling or writing Linda Engelmeier, DOC Forms Clearance Officer, (202) 482-3272, Department of Commerce, room 5033, 14th and Constitution Avenue, NW, Washington, D.C. 20230 (or via the Internet at Lengelme@doc.gov).

Written comments and recommendations for the proposed information collection should be sent within 30 of publication of this notice to Susan Schechter, OMB Desk Officer, room 10201, New Executive Office Building, Washington, D.C. 20503.

Dated: June 22, 2000.
Madeleine Clayton,
Management Analyst, Office of the Chief Information Officer.

[FR Doc. 00-16288 Filed 6-27-00; 8:45 am]

BILLING CODE 3510-BS-P